DEPARTMENT OF JUSTICE

Notice of Lodging of Proposed Amendment To Consent Decree Under The Clean Water Act

On June 24, 2020, the Department of Justice lodged a proposed Amendment to Consent Decree with the United States District Court for the Southern District of Indiana in the lawsuit entitled United States and State of Indiana v. City of Jeffersonville, Civil Action No. 4:09cv125.

The United States and the State of Indiana filed this lawsuit under the Clean Water Act in 2009. The Complaint sought injunctive relief and civil penalties for violations of the regulations that govern discharges of untreated sewer overflows. Concurrent with filing of that Complaint, the parties lodged a Consent Decree resolving the claims in the Complaint. The Court entered the Consent Decree in 2009.

The proposed Amendment to Consent Decree authorizes the City of Jeffersonville to modify its Long Term Control Plan. The modification will allow the City of Jeffersonville to complete infrastructure projects that will enable it to comply with a State-mandated phosphorus limit. The modification also allows the City more flexibility in the counting of overflows and reduces the overall volume of sewage discharged without changing the Consent Decree's compliance deadlines. The Amendment to Consent Decree does not seek civil penalties, and all other terms of the 2009 Consent Decree remain in effect.

The publication of this notice opens a period for public comment on the Amendment to Consent Decree. Comments should be addressed to the Principal Deputy Assistant Attorney General, Environment and Natural Resources Division, Jonathan D. Brightbill and should refer to United States and State of Indiana v. City of Jeffersonville, D.J. Ref. No. 90-5-1-1-08723. All comments must be submitted no later than thirty (30) days after the publication date of this notice. Comments may be submitted either by email or by mail:

To submit comments: | Send them to:
By email | pubcomment-ees.enrd@usdoj.gov.
By mail | Assistant Attorney General, U.S. DOJ—ENRD,P.O. Box 7611, Washington, D.C. 20044-7611.

During the public comment period, the Amendment to Consent Decree may be examined and downloaded at this Justice Department website: https://www.justice.gov/enrd/consent-decrees. We will provide a paper copy of the Amendment to Consent Decree upon written request and payment of reproduction costs. Please mail your request and payment to: Consent Decree Library, U.S. DOJ—ENRD, P.O. Box 7611, Washington, DC 20044-7611.

Please enclose a check or money order for $88.75 (25 cents per page reproduction cost) payable to the United States Treasury. For a paper copy of the Amendment to Consent Decree without the exhibits and signature pages, the cost is $1.50.

Patricia McKenna,
Assistant Section Chief, Environmental Enforcement Section, Environment and Natural Resources Division.

[FR Doc. 2020-14179 Filed 6-30-20; 8:45 am]

BILLING CODE 4410-15-P